DEPARTMENT OF TRANSPORTATION

National Highway Traffic Safety Administration

[Docket No. NHTSA-2005-22236]

Annual List of Defect and Noncompliance Decisions Affecting Nonconforming Imported Vehicles

AGENCY: National Highway Traffic Safety Administration (NHTSA), DOT.

ACTION: Annual list of defect and noncompliance decisions affecting nonconforming vehicles imported by registered importers.

SUMMARY: This document contains a list of vehicles recalled by their manufacturers during Calendar Year 2004 (January 1, 2004 through December 31, 2004) to correct a safety-related defect or a noncompliance with an applicable Federal motor vehicle safety standard (FMVSS). The listed vehicles are those that NHTSA has decided are substantially similar to vehicles imported into the United States that were not originally manufactured and certified to conform to all applicable FMVSS. The registered importers of those nonconforming vehicles are required to provide their owners with notification of, and a remedy for, the defects or noncompliances for which the listed vehicles were recalled.

FOR FURTHER INFORMATION CONTACT: Coleman Sachs, Office of Vehicle Safety Compliance, NHTSA (202-366-3151).

SUPPLEMENTARY INFORMATION: Under 49 U.S.C. 30141(a)(1)(A), a motor vehicle that was not originally manufactured to conform to all applicable Federal motor vehicle safety standards (FMVSS) shall be refused admission into the United States unless NHTSA has decided that the motor vehicle is substantially similar to a motor vehicle of the same model year that was originally manufactured for importation into and sale in the United States and certified under 49 U.S.C. 30115. Once NHTSA decides that a nonconforming vehicle is eligible for importation, it may be imported by a person who is registered with the agency pursuant to 49 U.S.C. 30141(c). Before releasing the vehicle for use on public streets, roads, or highways, the registered importer must certify to NHTSA, pursuant to 49 U.S.C. 30146(a), that the vehicle has been brought into conformity with all applicable FMVSS.

If a vehicle originally manufactured for importation into and sale in the United States is decided to contain a defect related to motor vehicle safety, or not to comply with an applicable FMVSS, 49 U.S.C. 30147(a)(1)(A) provides that the same defect or noncompliance is deemed to exist in any nonconforming vehicle that NHTSA has decided to be substantially similar and for which a registered importer has submitted a certificate of conformity to the agency. Under 49 U.S.C. 30147(a)(1)(B), the registered importer is deemed to be the nonconforming vehicle's manufacturer for the purpose of providing notification of, and a remedy for, the defect or noncompliance.

To apprise registered importers of the vehicles for which they must conduct a notification and remedy (i.e., “recall”) campaign, 49 U.S.C. 30147(a)(2) requires NHTSA to publish in the Federal Register notice of any defect or noncompliance decision that is made with respect to substantially similar U.S. certified vehicles. Annex A contains a list of all such decisions that were made during Calendar Year 2004. The list identifies the Recall Number that was assigned to the recall by NHTSA after the agency received the manufacturer's notification of the defect or noncompliance under 49 CFR part 573. After December 31, 2005, NHTSA will publish a comparable list of all defect and noncompliance decisions affecting nonconforming imported vehicles that are made during the current calendar year.

Under 49 U.S.C. 30120(a), a manufacturer may remedy a safety-related defect or noncompliance in a motor vehicle by repairing the vehicle, replacing the vehicle with an identical or reasonably equivalent vehicle, or by refunding the purchase price, less a reasonable allowance for depreciation. For each of the vehicles listed, the manufacturer elected to remedy the defect or noncompliance by repair, and not by replacing the vehicle or by refunding the purchase price.

Authority: 49 U.S.C. 30147(a)(2); 49 CFR 593.8; delegations of authority at 49 CFR 1.50 and 501.8.

Claude H. Harris,
Director, Office of Vehicle, Safety Compliance.

Annex A.—Calendar Year 2004 Recalls Affecting Vehicles Imported by Registered Importers
Make | Model | Model year | NHTSA recall No.
ACURA | 3.2CL | 2001 | 04V176000
ACURA | 3.2CL | 2002 | 04V176000
ACURA | 3.2CL | 2003 | 04V176000
ACURA | 3.2TL | 2000 | 04V176000
ACURA | 3.2TL | 2001 | 04V176000
ACURA | 3.2TL | 2002 | 04V176000
ACURA | 3.2TL | 2003 | 04V176000
ACURA | MDX | 2001 | 04V176000
ACURA | MDX | 2002 | 04V176000
ACURA | TL | 1999 | 03V423000
AUDI | A6 | 1998 | 04V133000
AUDI | A6 | 1999 | 04V133000
AUDI | A6 | 2000 | 04V133000
AUDI | A6 | 2001 | 04V133000
BMW | X5 | 2004 | 04V409000
BUICK | CENTURY | 1999 | 04V375000
BUICK | LESABRE | 1998 | 04V090000
BUICK | LESABRE | 1999 | 04V090000
BUICK | LESABRE | 2000 | 04V090000
BUICK | PARK AVENUE | 1998 | 04V090000
BUICK | PARK AVENUE | 1999 | 04V090000
BUICK | PARK AVENUE | 2000 | 04V090000
BUICK | REGAL | 1996 | 03V527000
BUICK | REGAL | 1997 | 03V527000
BUICK | REGAL | 1998 | 03V527000
BUICK | REGAL | 1999 | 04V375000
BUICK | RENDEZVOUS | 2003 | 04V150000
BUICK | RENDEZVOUS | 2004 | 04V150000
CADILLAC | DEVILLE | 1995 | 04V110000
CADILLAC | DEVILLE | 1996 | 04V110000
CADILLAC | DEVILLE | 1997 | 04V110000
CADILLAC | ELDORADO | 1995 | 04V110000
CADILLAC | ELDORADO | 1997 | 04V110000
CADILLAC | ESCALADE | 2003 | 04V045000
CADILLAC | ESCALADE EXT | 2002 | 04V129000
CADILLAC | ESCALADE EXT | 2003 | 04V129000
CADILLAC | SEVILLE | 1995 | 04V110000
CADILLAC | SEVILLE | 1996 | 04V110000
CADILLAC | SEVILLE | 1997 | 04V110000
CHEVROLET | ASTRO | 2003 | 03V328000
CHEVROLET | AVALANCHE | 2002 | 04V129000
CHEVROLET | AVALANCHE | 2003 | 04V045000
CHEVROLET | AVALANCHE | 2003 | 04V129000
CHEVROLET | AVALANCHE | 2004 | 04V129000
CHEVROLET | BLAZER | 2003 | 04V132000
CHEVROLET | BLAZER | 2004 | 04V132000
CHEVROLET | CAVALIER | 1998 | 04V036000
CHEVROLET | CAVALIER | 1999 | 04V036000
CHEVROLET | CAVALIER | 2000 | 04V036000
CHEVROLET | CAVALIER | 2001 | 04V036000
CHEVROLET | CORVETTE | 1997 | 04V060000
CHEVROLET | CORVETTE | 1998 | 04V060000
CHEVROLET | CORVETTE | 1999 | 04V060000
CHEVROLET | CORVETTE | 2000 | 04V060000
CHEVROLET | CORVETTE | 2001 | 04V060000
CHEVROLET | CORVETTE | 2002 | 04V060000
CHEVROLET | CORVETTE | 2003 | 04V060000
CHEVROLET | EXPRESS | 2003 | 04V225000
CHEVROLET | IMPALA | 2000 | 04V090000
CHEVROLET | IMPALA | 2004 | 04V287000
CHEVROLET | LUMINA | 1997 | 03V527000
CHEVROLET | LUMINA | 1998 | 03V527000
CHEVROLET | MALIBU | 1997 | 03V527000
CHEVROLET | MALIBU | 1998 | 03V527000
CHEVROLET | MALIBU | 2000 | 03V327000
CHEVROLET | MALIBU | 2001 | 03V327000
CHEVROLET | MONTE CARLO | 1997 | 03V527000
CHEVROLET | MONTE CARLO | 1998 | 03V527000
CHEVROLET | MONTE CARLO | 2000 | 04V090000
CHEVROLET | S-10 | 2003 | 04V132000
CHEVROLET | SILVERADO | 2000 | 04V129000
CHEVROLET | SILVERADO | 2001 | 04V129000
CHEVROLET | SILVERADO | 2002 | 04V129000
CHEVROLET | SILVERADO | 2003 | 04V045000
CHEVROLET | SILVERADO | 2003 | 04V129000
CHEVROLET | SILVERADO | 2003 | 04V225000
CHEVROLET | SILVERADO | 2004 | 04V045000
CHEVROLET | SILVERADO | 2004 | 04V129000
CHEVROLET | SILVERADO | 2004 | 04V225000
CHEVROLET | SILVERADO | 2005 | 04V376000
CHEVROLET | SUBURBAN | 2003 | 04V045000
CHEVROLET | SUBURBAN | 2004 | 04V045000
CHEVROLET | TAHOE | 2003 | 04V045000
CHEVROLET | TAHOE | 2004 | 04V045000
CHEVROLET | TRAILBLAZER | 2002 | 04V046000
CHEVROLET | TRAILBLAZER | 2002 | 04V201000
CHEVROLET | TRAILBLAZER | 2003 | 04V046000
CHEVROLET | TRAILBLAZER EXT | 2002 | 04V046000
CHEVROLET | TRAILBLAZER EXT | 2003 | 04V046000
CHEVROLET | VENTURE | 2004 | 04V177000
CHRYSLER | 300 | 2005 | 04V333000
CHRYSLER | 300 | 2005 | 04V334000
CHRYSLER | 300 | 2005 | 04V335000
CHRYSLER | 300M | 1999 | 04V021000
CHRYSLER | CIRRUS | 1995 | 04V021000
CHRYSLER | CIRRUS | 1996 | 04V021000
CHRYSLER | CIRRUS | 1997 | 04V021000
CHRYSLER | CIRRUS | 1998 | 04V021000
CHRYSLER | CIRRUS | 1999 | 04V021000
CHRYSLER | CONCORDE | 1993 | 04V021000
CHRYSLER | CONCORDE | 1994 | 04V021000
CHRYSLER | CONCORDE | 1995 | 04V021000
CHRYSLER | CONCORDE | 1996 | 04V021000
CHRYSLER | CONCORDE | 1997 | 04V021000
CHRYSLER | CONCORDE | 1998 | 04V021000
CHRYSLER | CONCORDE | 1999 | 04V021000
CHRYSLER | LHS | 1994 | 04V021000
CHRYSLER | LHS | 1995 | 04V021000
CHRYSLER | LHS | 1996 | 04V021000
CHRYSLER | LHS | 1997 | 04V021000
CHRYSLER | LHS | 1998 | 04V021000
CHRYSLER | LHS | 1999 | 04V021000
CHRYSLER | PT CRUISER | 2001 | 04V268000
CHRYSLER | PT CRUISER | 2002 | 04V268000
CHRYSLER | PT CRUISER | 2003 | 04V268000
CHRYSLER | PT CRUISER | 2005 | 04V268000
CHRYSLER | SEBRING | 2004 | 04V313000
CHRYSLER | SEBRING | 2004 | 04V336000
CHRYSLER | TOWN AND COUNTRY | 1998 | 04V480000
CHRYSLER | TOWN AND COUNTRY | 1999 | 04V480000
CHRYSLER | TOWN AND COUNTRY | 2000 | 04V480000
DODGE | CARAVAN | 1998 | 04V480000
DODGE | CARAVAN | 1999 | 04V480000
DODGE | CARAVAN | 2000 | 03V505000
DODGE | CARAVAN | 2000 | 04V480000
DODGE | CARAVAN | 2002 | 04V386000
DODGE | CARAVAN | 2003 | 04V386000
DODGE | CARAVAN | 2004 | 04V386000
DODGE | DAKOTA | 2000 | 04V596000
DODGE | DAKOTA | 2001 | 03V505000
DODGE | DAKOTA | 2001 | 04V596000
DODGE | DAKOTA | 2002 | 03V505000
DODGE | DAKOTA | 2002 | 04V216000
DODGE | DAKOTA | 2002 | 04V596000
DODGE | DAKOTA | 2003 | 04V216000
DODGE | DAKOTA | 2003 | 04V596000
DODGE | DAKOTA | 2004 | 04V216000
DODGE | DURANGO | 2000 | 04V596000
DODGE | DURANGO | 2001 | 04V596000
DODGE | DURANGO | 2002 | 04V216000
DODGE | DURANGO | 2002 | 04V596000
DODGE | DURANGO | 2003 | 04V216000
DODGE | DURANGO | 2003 | 04V596000
DODGE | GRAND CARAVAN | 1998 | 04V480000
DODGE | GRAND CARAVAN | 1999 | 04V480000
DODGE | GRAND CARAVAN | 2000 | 03V505000
DODGE | GRAND CARAVAN | 2000 | 04V480000
DODGE | GRAND CARAVAN | 2002 | 04V386000
DODGE | GRAND CARAVAN | 2003 | 04V386000
DODGE | GRAND CARAVAN | 2004 | 04V386000
DODGE | INTREPID | 1993 | 04V021000
DODGE | INTREPID | 1994 | 04V021000
DODGE | INTREPID | 1995 | 04V021000
DODGE | INTREPID | 1996 | 04V021000
DODGE | INTREPID | 1997 | 04V021000
DODGE | INTREPID | 1998 | 04V021000
DODGE | INTREPID | 1999 | 04V021000
DODGE | RAM | 1998 | 04V185000
DODGE | RAM | 1999 | 04V185000
DODGE | RAM | 2000 | 04V185000
DODGE | RAM | 2001 | 04V185000
DODGE | RAM | 2002 | 04V185000
DODGE | RAM | 2003 | 04V185000
DODGE | RAM | 2004 | 04V385000
DODGE | RAM 2500 | 2004 | 04V221000
DODGE | STRATUS | 1995 | 04V021000
DODGE | STRATUS | 1996 | 04V021000
DODGE | STRATUS | 1997 | 04V021000
DODGE | STRATUS | 1998 | 04V021000
DODGE | STRATUS | 1999 | 04V021000
EAGLE | VISION | 1993 | 04V021000
EAGLE | VISION | 1994 | 04V021000
EAGLE | VISION | 1995 | 04V021000
EAGLE | VISION | 1996 | 04V021000
EAGLE | VISION | 1997 | 04V021000
FORD | CROWN VICTORIA | 2003 | 04V328000
FORD | E150 | 2003 | 04V444000
FORD | E150 | 2003 | 04V445000
FORD | E250 | 2003 | 04V444000
FORD | E250 | 2003 | 04V445000
FORD | E350 | 2003 | 04V444000
FORD | E350 | 2003 | 04V445000
FORD | E350 | 2004 | 04V444000
FORD | E350 | 2004 | 04V445000
FORD | E450 | 2003 | 04V444000
FORD | E450 | 2003 | 04V445000
FORD | E450 | 2004 | 04V445000
FORD | E550 | 2003 | 04V444000
FORD | E550 | 2003 | 04V445000
FORD | ESCAPE | 2001 | 03V507000
FORD | ESCAPE | 2001 | 04V165000
FORD | ESCAPE | 2002 | 04V165000
FORD | ESCAPE | 2003 | 04V165000
FORD | EXCURSION | 2003 | 04V327000
FORD | EXPLORER | 2002 | 04V442000
FORD | EXPLORER | 2003 | 04V442000
FORD | F150 | 2004 | 04V200000
FORD | F150 | 2004 | 04V443000
FORD | F250 | 2003 | 04V327000
FORD | F250 | 2004 | 04V229000
FORD | F350 | 2003 | 04V327000
FORD | F350 | 2004 | 04V229000
FORD | FOCUS | 2000 | 03V482000
FORD | FOCUS | 2001 | 03V482000
FORD | FREESTAR | 2004 | 04V446000
FORD | RANGER | 2004 | 04V331000
FORD | TAURUS | 1999 | 04V332000
FORD | TAURUS | 2000 | 04V106000
FORD | TAURUS | 2000 | 04V332000
FORD | TAURUS | 2001 | 04V106000
FORD | TAURUS | 2001 | 04V332000
FORD | TAURUS | 2002 | 04V106000
FORD | TAURUS | 2003 | 04V105000
FORD | TAURUS | 2003 | 04V106000
FORD | TAURUS | 2004 | 04V330000
GMC | ENVOY | 2002 | 04V046000
GMC | ENVOY | 2002 | 04V201000
GMC | ENVOY | 2002 | 04V289000
GMC | ENVOY | 2003 | 04V046000
GMC | ENVOY XL | 2002 | 04V046000
GMC | ENVOY XL | 2003 | 04V046000
GMC | SAFARI | 2003 | 03V328000
GMC | SAVANA | 2003 | 04V045000
GMC | SAVANA | 2003 | 04V225000
GMC | SIERRA | 2000 | 04V129000
GMC | SIERRA | 2001 | 04V129000
GMC | SIERRA | 2002 | 04V129000
GMC | SIERRA | 2003 | 04V045000
GMC | SIERRA | 2003 | 04V129000
GMC | SIERRA | 2003 | 04V225000
GMC | SIERRA | 2004 | 04V045000
GMC | SIERRA | 2004 | 04V129000
GMC | SIERRA | 2004 | 04V225000
GMC | SONOMA | 2003 | 04V132000
GMC | YUKON | 2003 | 04V045000
GMC | YUKON | 2004 | 04V045000
GMC | YUKON XL | 2003 | 04V045000
HARLEY DAVIDSON | FLHRCI | 2003 | 04V218000
HARLEY DAVIDSON | FXD | 2003 | 04V218000
HARLEY DAVIDSON | XL883 | 2003 | 04V218000
HONDA | ACCORD | 1998 | 03V423000
HONDA | ACCORD | 1999 | 03V423000
HONDA | ACCORD | 2000 | 04V256000
HONDA | ACCORD | 2001 | 04V256000
HONDA | ACCORD | 2003 | 04V176000
HONDA | ACCORD | 2004 | 04V176000
HONDA | CIVIC | 2001 | 04V086000
HONDA | CIVIC | 2002 | 04V086000
HONDA | CR-V | 2002 | 04V255000
HONDA | CR-V | 2003 | 04V255000
HONDA | INSIGHT | 2000 | 04V086000
HONDA | INSIGHT | 2001 | 04V086000
HONDA | ODYSSEY | 1999 | 03V423000
HONDA | ODYSSEY | 2002 | 04V176000
HONDA | ODYSSEY | 2003 | 04V176000
HONDA | ODYSSEY | 2004 | 04V176000
HONDA | PILOT | 2003 | 04V176000
HONDA | S2000 | 2000 | 04V257000
HUMMER | H2 | 2003 | 04V045000
HYUNDAI | ELANTRA | 2001 | 03V496000
HYUNDAI | ELANTRA | 2002 | 03V496000
HYUNDAI | ELANTRA | 2002 | 04V178000
HYUNDAI | ELANTRA | 2003 | 03V496000
HYUNDAI | ELANTRA | 2003 | 04V178000
HYUNDAI | ELANTRA | 2004 | 04V208000
HYUNDAI | SANTA FE | 2001 | 03V520000
HYUNDAI | SANTA FE | 2002 | 03V520000
HYUNDAI | SANTA FE | 2003 | 03V520000
HYUNDAI | SANTA FE | 2003 | 04V131000
HYUNDAI | SANTA FE | 2004 | 03V520000
HYUNDAI | SANTA FE | 2004 | 04V131000
HYUNDAI | SONATA | 2002 | 04V178000
HYUNDAI | TIBURON | 2002 | 03V496000
HYUNDAI | TIBURON | 2002 | 04V178000
HYUNDAI | TIBURON | 2003 | 03V496000
HYUNDAI | TIBURON | 2003 | 04V178000
INTERNATIONAL | 4300 | 2002 | 03V062000
INTERNATIONAL | 4300 | 2005 | 04V508000
INTERNATIONAL | 4700 | 1999 | 04V269000
INTERNATIONAL | 4700 | 2000 | 04V269000
INTERNATIONAL | 4700 | 2001 | 04V269000
INTERNATIONAL | 4900 | 1999 | 04V269000
INTERNATIONAL | 4900 | 2000 | 04V269000
INTERNATIONAL | 4900 | 2001 | 04V269000
INTERNATIONAL | 4900 | 2002 | 04V269000
INTERNATIONAL | 7400 | 2002 | 04V144000
INTERNATIONAL | 7400 | 2002 | 04V306000
INTERNATIONAL | 7400 | 2003 | 04V144000
INTERNATIONAL | 7400 | 2003 | 04V306000
INTERNATIONAL | 7500 | 2002 | 04V144000
INTERNATIONAL | 7500 | 2002 | 04V306000
INTERNATIONAL | 7500 | 2003 | 04V144000
INTERNATIONAL | 7500 | 2003 | 04V306000
INTERNATIONAL | 7600 | 2003 | 04V306000
INTERNATIONAL | 7600 | 2004 | 04V306000
INTERNATIONAL | 9100 | 1997 | 04V100000
INTERNATIONAL | 9100 | 1998 | 04V100000
INTERNATIONAL | 9100 | 1999 | 04V100000
INTERNATIONAL | 9100 | 2000 | 04V100000
INTERNATIONAL | 9100 | 2001 | 04V100000
INTERNATIONAL | 9200 | 1995 | 04V100000
INTERNATIONAL | 9200 | 1996 | 04V100000
INTERNATIONAL | 9200 | 1997 | 04V100000
INTERNATIONAL | 9200 | 1998 | 04V100000
INTERNATIONAL | 9200 | 1999 | 04V100000
INTERNATIONAL | 9200 | 2000 | 04V100000
INTERNATIONAL | 9200I | 2000 | 04V100000
INTERNATIONAL | 9300 | 1995 | 04V100000
INTERNATIONAL | 9300 | 1996 | 04V100000
INTERNATIONAL | 9300 | 1997 | 04V100000
INTERNATIONAL | 9300 | 1998 | 04V100000
INTERNATIONAL | 9300 | 1999 | 04V100000
INTERNATIONAL | 9400 | 1995 | 04V100000
INTERNATIONAL | 9400 | 1996 | 04V100000
INTERNATIONAL | 9400 | 1997 | 04V100000
INTERNATIONAL | 9400 | 1998 | 04V100000
INTERNATIONAL | 9400 | 1999 | 04V100000
INTERNATIONAL | 9400 | 2000 | 04V100000
INTERNATIONAL | 9400 | 2001 | 04V100000
INTERNATIONAL | 9900 | 1999 | 04V100000
INTERNATIONAL | 9900 | 2000 | 04V100000
INTERNATIONAL | 9900 | 2001 | 04V100000
INTERNATIONAL | 9900 | 2002 | 04V100000
INTERNATIONAL | 9900I | 2000 | 04V100000
ISUZU | TROOPER | 1992 | 04V199000
ISUZU | TROOPER | 1993 | 04V199000
ISUZU | TROOPER | 1994 | 04V199000
ISUZU | TROOPER | 1995 | 04V199000
JAGUAR | S-TYPE | 2003 | 04V024000
JAGUAR | S-TYPE | 2003 | 04V488000
JEEP | GRAND CHEROKEE | 2004 | 04V048000
JEEP | GRAND CHEROKEE | 2004 | 04V112000
KENWORTH | T300 | 2003 | 04V169000
KENWORTH | T600 | 2004 | 04V174000
KENWORTH | T600 | 2004 | 04V356000
KENWORTH | T600 | 2004 | 04V360000
KENWORTH | T800 | 2004 | 04V174000
KENWORTH | T800 | 2004 | 04V356000
KENWORTH | T800 | 2004 | 04V360000
KIA | RIO | 2001 | 04V179000
KIA | RIO | 2002 | 04V179000
KIA | SEPHIA | 2000 | 04V305000
KIA | SPORTAGE | 1999 | 04V305000
KIA | SPORTAGE | 2000 | 04V305000
LAND ROVER | DISCOVERY II | 1999 | 04V005000
LAND ROVER | DISCOVERY II | 2000 | 04V005000
LAND ROVER | DISCOVERY II | 2000 | 04V006000
LINCOLN | TOWN CAR | 2003 | 04V328000
MAZDA | MPV | 2001 | 04V234000
MAZDA | TRIBUTE | 2001 | 03V515000
MAZDA | TRIBUTE | 2001 | 04V175000
MAZDA | TRIBUTE | 2002 | 04V175000
MERCURY | COUGAR | 1999 | 04V421000
MERCURY | COUGAR | 2000 | 04V421000
MERCURY | COUGAR | 2001 | 04V421000
MERCURY | COUGAR | 2002 | 04V421000
MERCURY | SABLE | 1999 | 04V332000
MINI | COOPER S | 2004 | 04V348000
MITSUBISHI | MONTERO | 2002 | 04V319000
MITSUBISHI | MONTERO | 2003 | 04V319000
NISSAN | FRONTIER | 1999 | 04V230000
NISSAN | FRONTIER | 2000 | 04V230000
NISSAN | FRONTIER | 2001 | 04V230000
NISSAN | FRONTIER | 2002 | 04V230000
NISSAN | MAXIMA | 2004 | 04V326000
NISSAN | XTERRA | 2000 | 04V230000
NISSAN | XTERRA | 2001 | 04V230000
NISSAN | XTERRA | 2002 | 04V230000
NISSAN | XTERRA | 2003 | 04V230000
OLDSMOBILE | 88 | 1998 | 04V090000
OLDSMOBILE | ALERO | 2000 | 03V327000
OLDSMOBILE | ALERO | 2001 | 03V327000
OLDSMOBILE | AURORA | 1995 | 04V110000
OLDSMOBILE | AURORA | 1996 | 04V110000
OLDSMOBILE | AURORA | 1997 | 04V110000
OLDSMOBILE | BRAVADA | 2002 | 04V046000
OLDSMOBILE | BRAVADA | 2002 | 04V201000
OLDSMOBILE | BRAVADA | 2002 | 04V289000
OLDSMOBILE | BRAVADA | 2003 | 04V046000
OLDSMOBILE | CUTLASS | 1997 | 03V527000
OLDSMOBILE | CUTLASS SUPREME | 1996 | 03V527000
OLDSMOBILE | CUTLASS SUPREME | 1997 | 03V527000
OLDSMOBILE | INTRIGUE | 1998 | 03V527000
PLYMOUTH | BREEZE | 1996 | 04V021000
PLYMOUTH | BREEZE | 1997 | 04V021000
PLYMOUTH | BREEZE | 1998 | 04V021000
PLYMOUTH | BREEZE | 1999 | 04V021000
PLYMOUTH | GRAND VOYAGER | 1998 | 04V480000
PLYMOUTH | GRAND VOYAGER | 1999 | 04V480000
PLYMOUTH | GRAND VOYAGER | 2000 | 04V480000
PLYMOUTH | VOYAGER | 1998 | 04V480000
PLYMOUTH | VOYAGER | 1999 | 04V480000
PLYMOUTH | VOYAGER | 2000 | 04V480000
PONTIAC | BONNEVILLE | 1998 | 04V090000
PONTIAC | BONNEVILLE | 1999 | 04V090000
PONTIAC | BONNEVILLE | 2000 | 04V090000
PONTIAC | GRAND AM | 1998 | 04V036000
PONTIAC | GRAND AM | 2000 | 03V327000
PONTIAC | GRAND AM | 2001 | 03V327000
PONTIAC | GRAND AM | 2004 | 04V301000
PONTIAC | GRAND PRIX | 1996 | 03V527000
PONTIAC | GRAND PRIX | 2004 | 04V287000
PONTIAC | GRAND PRIX | 2004 | 04V299000
PONTIAC | MONTANA | 2004 | 04V177000
PONTIAC | SUNFIRE | 1998 | 04V036000
PONTIAC | SUNFIRE | 1999 | 04V036000
PONTIAC | SUNFIRE | 2000 | 04V036000
PONTIAC | SUNFIRE | 2001 | 04V036000
PONTIAC | SUNFIRE | 2004 | 04V300000
PORSCHE | CAYENNE S | 2003 | 04V069000
SUBARU | IMPREZA | 2002 | 04V128000
SUBARU | IMPREZA | 2002 | 04V342000
SUBARU | IMPREZA | 2003 | 04V128000
SUBARU | IMPREZA | 2003 | 04V342000
SUBARU | LEGACY | 2001 | 04V128000
SUBARU | LEGACY | 2002 | 04V128000
SUBARU | OUTBACK | 2001 | 04V128000
SUBARU | OUTBACK | 2002 | 04V128000
SUBARU | OUTBACK | 2003 | 04V128000
SUZUKI | GRAND VITARA | 1999 | 03V512000
SUZUKI | GRAND VITARA | 1999 | 04V427000
SUZUKI | GRAND VITARA | 2000 | 03V512000
SUZUKI | GRAND VITARA | 2000 | 04V427000
SUZUKI | GRAND VITARA | 2002 | 03V512000
SUZUKI | GRAND VITARA | 2002 | 04V427000
SUZUKI | VZ800 | 2003 | 04V350000
TOYOTA | CAMRY | 2002 | 04V346000
TOYOTA | CAMRY | 2003 | 04V346000
TOYOTA | CAMRY | 2004 | 04V346000
TOYOTA | HIGHLANDER | 2001 | 04V181000
TOYOTA | HIGHLANDER | 2002 | 04V181000
TOYOTA | HIGHLANDER | 2003 | 04V181000
TOYOTA | HIGHLANDER | 2004 | 04V181000
TRIUMPH | SPEED TRIPLE | 2001 | 04V156000
TRIUMPH | TT600 | 2000 | 04V156000
VOLKSWAGEN | JETTA | 1999 | 04V096000
VOLKSWAGEN | JETTA | 2000 | 04V096000
VOLKSWAGEN | JETTA | 2001 | 04V096000
VOLKSWAGEN | JETTA | 2002 | 04V096000
WESTERN STAR | 4900SA | 2004 | 04V120000

[FR Doc. 05-17465 Filed 9-1-05; 8:45 am]

BILLING CODE 4910-59-P